DEPARTMENT OF TRANSPORTATION

Federal Aviation Administration

14 CFR Part 39

[Docket No. 2000-SW-23-AD]

RIN No. 2120-AA64

Airworthiness Directives; Eurocopter Deutschland GmbH Model EC135 P1 and EC135 T1 Helicopters

AGENCY: Federal Aviation Administration, DOT.

ACTION: Notice of proposed rulemaking (NPRM).

SUMMARY: This document proposes the adoption of a new airworthiness directive (AD) for Eurocopter Deutschland GmbH (ECD) Model EC135 P1 and EC135 T1 helicopters. This proposal would require inspecting the hydraulic line shielding hose (hose), replacing any unairworthy hose with an airworthy hose, and installing a nylon cable tie. This proposal is prompted by the tail rotor drive shaft Thomas coupling contacting and chafing the hose that shields the fenestron tail rotor hydraulic lines. The actions specified by the proposed AD are intended to prevent damage to the hose, leaking of accumulated hydraulic fluid to an area with an ignition source, inflight fire, and subsequent loss of control of the helicopter.

DATES: Comments must be received on or before November 17, 2000.

ADDRESSES: Submit comments in triplicate to the Federal Aviation Administration (FAA), Office of the Regional Counsel, Southwest Region, Attention: Rules Docket No. 2000-SW-23-AD, 2601 Meacham Blvd., Room 663, Fort Worth, Texas 76137. You may also send comments electronically to the Rules Docket at the following address: 9-asw-adcomments@faa.gov. Comments may be inspected at the Office of the Regional Counsel between 9 a.m. and 3 p.m., Monday through Friday, except Federal holidays.

FOR FURTHER INFORMATION CONTACT: Richard Monschke, Aviation Safety Engineer, FAA, Rotorcraft Directorate, Rotorcraft Standards Staff, Fort Worth, Texas 76193-0110, telephone (817) 222-5116, fax (817) 222-5961.

SUPPLEMENTARY INFORMATION:

Comments Invited

Interested persons are invited to participate in the making of the proposed rule by submitting such written data, views, or arguments as they may desire. Communications should identify the Rules Docket number and be submitted in triplicate to the address specified above. All communications received on or before the closing date for comments will be considered before taking action on the proposed rule. The proposals contained in this notice may be changed in light of the comments received.

Comments are specifically invited on the overall regulatory, economic, environmental, and energy aspects of the proposed rule. All comments submitted will be available in the Rules Docket for examination by interested persons. A report summarizing each FAA-public contact concerned with the substance of this proposal will be filed in the Rules Docket.

Commenters wishing the FAA to acknowledge receipt of their mailed comments submitted in response to this notice must submit a self-addressed, stamped postcard on which the following statement is made: “Comments to Docket No. 2000-SW-23-AD.” The postcard will be date stamped and returned to the commenter.

Availability of NPRMs

Any person may obtain a copy of this NPRM by submitting a request to the FAA, Office of the Regional Counsel, Southwest Region, Attention: Rules Docket No. 2000-SW-23-AD, 2601 Meacham Blvd., Room 663, Fort Worth, Texas 76137.

Discussion

ECD issued Alert Service Bulletin EC 135-29A-003, dated February 24, 1999 (ASB), which specifies inspecting the hose, changing the hose if necessary, and also fitting with a ty-rap if necessary.

This helicopter model is manufactured in the Federal Republic of Germany and is type certificated for operation in the United States under the provisions of 14 CFR 21.29 and the applicable bilateral airworthiness agreement. The FAA has examined the findings, reviewed all available information, and determined that AD action is necessary for products of this type design that are certificated for operation in the United States.

The FAA has identified an unsafe condition that is likely to exist or develop on other ECD Model EC135 P1 and EC135 T1 helicopters of the same type design registered in the United States. The proposed AD would require, within 50 hours time-in-service (TIS), inspecting the hose to determine if the tail rotor drive shaft Thomas coupling near the No. 1 hanger bearing is rubbing against the hose. The purpose of the hose is to prevent any accumulated or pressurized hydraulic fluid from entering an engine compartment with elevated temperatures that could start a fire. If damage is found, the proposed AD would require replacing the unairworthy hose with an airworthy hose within 25 hours TIS. The AD would also require, within 50 hours TIS, installing a nylon cable tie to increase the clearance between the drive shaft and the hose. Inspecting, replacing any unairworthy hose with an airworthy hose, and installing a nylon cable tie constitutes terminating action for this AD. The actions would be required to be accomplished in accordance with the ASB described previously.

The FAA estimates that 25 helicopters of U.S. registry would be affected by this proposed AD, that it would take approximately 9.75 work hours per helicopter to accomplish the proposed actions, and that the average labor rate is $60 per work hour. Based on these figures, the total cost impact of the proposed AD on U.S. operators is estimated to be $14,625 assuming no parts will be required.

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

Eurocopter Deutschland GmbH: Docket No. 2000-SW-23-AD.

Applicability: Model EC135 P1 and EC135 T1 helicopters, serial numbers 0005 through 0094 with hydraulic line shielding hose DN 56 (hose), part number (P/N) L290M20X1 001, installed, certificated in any category.

Note 1: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in accordance with paragraph (c) of this AD. The request should include an assessment of the effect of the modification, alteration, or repair on the unsafe condition addressed by this AD; and if the unsafe condition has not been eliminated, the request should include specific proposed actions to address it.

Compliance: Required as indicated, unless accomplished previously.

To prevent damage to the hose, leaking of accumulated hydraulic fluid to an area with an ignition source, inflight fire, and subsequent loss of control of the helicopter, accomplish the following:

(a) Within 50 hours time-in-service (TIS),

(1) Inspect the hose in accordance with the Accomplishment Instructions, paragraph 3.A., of Eurocopter Alert Service Bulletin EC 135 29A-003, dated February 24, 1999 (ASB). If a damaged hose is found, within 25 hours TIS, replace the unairworthy hose with an airworthy hose in accordance with the Accomplishment Instructions, paragraph 3.B., of the ASB.

(2) Install a nylon cable tie in accordance with the Accomplishment Instructions, paragraph 3.C., of the ASB.

(b) Inspecting the hose, replacing any unairworthy hose with an airworthy hose, and installing a nylon cable tie constitute terminating action for the requirements of this AD.

(c) An alternative method of compliance or adjustment of the compliance time that provides an acceptable level of safety may be used if approved by the Manager, Regulations Group, Rotorcraft Directorate, FAA. Operators shall submit their requests through an FAA Principal Maintenance Inspector, who may concur or comment and then send it to the Manager, Regulations Group.

Note 2: Information concerning the existence of approved alternative methods of compliance with this AD, if any, may be obtained from the Regulations Group.

(d) Special flight permits may be issued in accordance with §§ 21.197 and 21.199 of the Federal Aviation Regulations (14 CFR 21.197 and 21.199) to operate the helicopter to a location where the requirements of this AD can be accomplished.

Issued in Fort Worth, Texas, on September 8, 2000.
Henry A. Armstrong,
Manager, Rotorcraft Directorate, Aircraft Certification Service.

[FR Doc. 00-23860 Filed 9-15-00; 8:45 am]

BILLING CODE 4910-13-U